DEPARTMENT OF ENERGY

Federal Energy Regulatory Commission

Combined Notice of Filings #1

Take notice that the Commission received the following Complaints and Compliance filings in EL Dockets:

Docket Numbers: EL25-21-000.

Applicants: BP Energy Retail Company California LLC v. California Independent System Operator Corporation.

Description: Complaint of BP Energy Retail Company California LLC v. California Independent System Operator Corporation.

Filed Date: 11/25/24.

Accession Number: 20241125-5163.

Comment Date: 5 p.m. ET 12/16/24.

Take notice that the Commission received the following electric rate filings:

Docket Numbers: ER24-2394-001.

Applicants: Cataract Coast, LLC, Aurora Trading Company, LLC, Venturi Asset Management, LLC.

Description: Tariff Amendment: Cataract Coast, LLC submits tariff filing per 35.17(b): Cataract Coast Deficiency Filing to be effective 6/28/2024.

Filed Date: 11/26/24.

Accession Number: 20241126-5003.

Comment Date: 5 p.m. ET 12/17/24.

Docket Numbers: ER24-2394-002.

Applicants: Cataract Coast, LLC, Aurora Trading Company, LLC, Venturi Asset Management, LLC.

Description: Tariff Amendment: Cataract Coast, LLC submits tariff filing per 35.17(b): Cataract Coast Deficiency Filing to be effective 6/28/2024.

Filed Date: 11/26/24.

Accession Number: 20241126-5260.

Comment Date: 5 p.m. ET 12/17/24.

Docket Numbers: ER24-2396-001.

Applicants: Venturi Asset Management, LLC.

Description: Tariff Amendment: Venturi Asset Management Deficiency Filing to be effective 6/28/2024.

Filed Date: 11/26/24.

Accession Number: 20241126-5005.

Comment Date: 5 p.m. ET 12/17/24.

Docket Numbers: ER24-2396-002.

Applicants: Venturi Asset Management, LLC.

Description: Tariff Amendment: Venturi Asset Management Deficiency Filing to be effective 6/28/2024.

Filed Date: 11/26/24.

Accession Number: 20241126-5265.

Comment Date: 5 p.m. ET 12/17/24.

Docket Numbers: ER24-2399-001.

Applicants: Aurora Trading Company, LLC.

Description: Tariff Amendment: Aurora Deficiency Filing to be effective 6/28/2024.

Filed Date: 11/26/24.

Accession Number: 20241126-5001.

Comment Date: 5 p.m. ET 12/17/24.

Docket Numbers: ER24-2399-002.

Applicants: Aurora Trading Company, LLC.

Description: Tariff Amendment: Aurora Deficiency Filing to be effective 6/28/2024.

Filed Date: 11/26/24.

Accession Number: 20241126-5263.

Comment Date: 5 p.m. ET 12/17/24.

Docket Numbers: ER24-3162-000.

Applicants: Wilderness Line Holdings, LLC.

Description: Petition for Limited Waiver of Wilderness Line Holdings, LLC.

Filed Date: 9/26/24.

Accession Number: 20240926-5198.

Comment Date: 5 p.m. ET 12/10/24.

Docket Numbers: ER25-36-000.

Applicants: BCE Seal Beach, LLC.

Description: Supplement to October 4, 2024, BCE Seal Beach, LLC tariff filing.

Filed Date: 11/26/24.

Accession Number: 20241126-5162.

Comment Date: 5 p.m. ET 12/6/24.

Docket Numbers: ER25-560-000.

Applicants: AEP Oklahoma Transmission Company, Inc.

Description: § 205(d) Rate Filing: AEPOTC-Kiowa County Project (Great Plains) Interim Maintenance Agreement to be effective 10/30/2024.

Filed Date: 11/25/24.

Accession Number: 20241125-5212.

Comment Date: 5 p.m. ET 12/16/24.

Docket Numbers: ER25-561-000.

Applicants: Crossover Wind LLC.

Description: Initial Rate Filing: Baseline new to be effective 12/1/2024.

Filed Date: 11/25/24.

Accession Number: 20241125-5214.

Comment Date: 5 p.m. ET 12/16/24.

Docket Numbers: ER25-562-000.

Applicants: Winfield Solar I, LLC.

Description: Initial Rate Filing: Baseline new to be effective 12/1/2024.

Filed Date: 11/25/24.

Accession Number: 20241125-5215.

Comment Date: 5 p.m. ET 12/16/24.

Docket Numbers: ER25-563-000.

Applicants: California Grid Holdings LLC.

Description: Application for Authorization for Abandoned Plant Incentive Rate Treatment of California Grid Holdings LLC.

Filed Date: 11/19/24.

Accession Number: 20241119-5213.

Comment Date: 5 p.m. ET 12/10/24.

Docket Numbers: ER25-564-000.

Applicants: Southern California Edison Company.

Description: Informational Filing of 2025 Formula Rate Annual Update of Southern California Edison Company.

Filed Date: 11/22/24.

Accession Number: 20241122-5291.

Comment Date: 5 p.m. ET 12/13/24.

Docket Numbers: ER25-565-000.

Applicants: Entergy Arkansas, LLC.

Description: § 205(d) Rate Filing: MSS-4R State Tax Rate ADIT to be effective 2/1/2025.

Filed Date: 11/26/24.

Accession Number: 20241126-5018.

Comment Date: 5 p.m. ET 12/17/24.

Docket Numbers: ER25-566-000.

Applicants: Cheyenne Light, Fuel and Power Company.

Description: § 205(d) Rate Filing: Filing of Standard LGIA with NextEra Energy Resources Interconnection Holdings to be effective 10/29/2024.

Filed Date: 11/26/24.

Accession Number: 20241126-5047.

Comment Date: 5 p.m. ET 12/17/24.

Docket Numbers: ER25-567-000.

Applicants: BR Pacific Hydro Power LLC.

Description: Initial Rate Filing: Market-Based Rate Application to be effective 1/26/2025.

Filed Date: 11/26/24.

Accession Number: 20241126-5060.

Comment Date: 5 p.m. ET 12/17/24.

Docket Numbers: ER25-568-000.

Applicants: Matta Grid, LLC.

Description: Request for Limited Waiver of Matta Grid, LLC of the PJM Tariff, Part IV, Subpart A, Section 36.2A.4.

Filed Date: 11/25/24.

Accession Number: 20241125-5249.

Comment Date: 5 p.m. ET 12/9/24.

Docket Numbers: ER25-569-000.

Applicants: Southwest Power Pool, Inc.

Description: § 205(d) Rate Filing: 1276R35 Evergy Metro NITSA NOA to be effective 12/1/2024.

Filed Date: 11/26/24.

Accession Number: 20241126-5132.

Comment Date: 5 p.m. ET 12/17/24.

Docket Numbers: ER25-570-000.

Applicants: PJM Interconnection, L.L.C.

Description: § 205(d) Rate Filing: Original NSA, Service Agreement No. 7413; AC2-157 to be effective 1/27/2025.

Filed Date: 11/26/24.

Accession Number: 20241126-5136.

Comment Date: 5 p.m. ET 12/17/24.

Docket Numbers: ER25-571-000.

Applicants: Black Hills Colorado Electric, LLC.

Description: § 205(d) Rate Filing: Filing of Second Amended and Restated LGIA with TC Colorado Solar, LLC to be effective 11/5/2024.

Filed Date: 11/26/24.

Accession Number: 20241126-5142.

Comment Date: 5 p.m. ET 12/17/24.

Docket Numbers: ER25-572-000.

Applicants: PJM Interconnection, L.L.C.

Description: § 205(d) Rate Filing: Amendment to WMPA, Service Agreement No. 6868; Queue No. AF2-165 to be effective 1/26/2025.

Filed Date: 11/26/24.

Accession Number: 20241126-5158.

Comment Date: 5 p.m. ET 12/17/24.

Docket Numbers: ER25-573-000.

Applicants: PacifiCorp.

Description: § 205(d) Rate Filing: Filing for Revisions to the OATT to Implement the Extended Day-Ahead Market to be effective 3/31/2025.

Filed Date: 11/26/24.

Accession Number: 20241126-5165.

Comment Date: 5 p.m. ET 12/17/24.

Docket Numbers: ER25-574-000.

Applicants: Arizona Public Service Company.

Description: § 205(d) Rate Filing: Service Agreement No. 405, Amendment No. 2 to be effective 1/26/2025.

Filed Date: 11/26/24.

Accession Number: 20241126-5170.

Comment Date: 5 p.m. ET 12/17/24.

Docket Numbers: ER25-575-000.

Applicants: PJM Interconnection, L.L.C.

Description: § 205(d) Rate Filing: Amendment to ISA SA No. 7042; AE1-245 to be effective 1/26/2025.

Filed Date: 11/26/24.

Accession Number: 20241126-5171.

Comment Date: 5 p.m. ET 12/17/24.

Docket Numbers: ER25-576-000.

Applicants: California Independent System Operator Corporation.

Description: § 205(d) Rate Filing: 2024-11-26 Energy Storage and Bid Cost Recovery Tariff Amendment to be effective 12/1/2024.

Filed Date: 11/26/24.

Accession Number: 20241126-5269.

Comment Date: 5 p.m. ET 12/17/24.

Docket Numbers: ER25-577-000.

Applicants: Midcontinent Independent System Operator, Inc.

Description: § 205(d) Rate Filing: 2024-11-26_SA 2278 Termination of ITC Midwest-NEMO 1st Rev ITSA (GFA 14) to be effective 1/1/2025.

Filed Date: 11/26/24.

Accession Number: 20241126-5274.

Comment Date: 5 p.m. ET 12/17/24.

Docket Numbers: ER25-578-000.

Applicants: PJM Interconnection, L.L.C.

Description: § 205(d) Rate Filing: Original GIA Service Agreement No. 7417; Project Identifier No. AG1-416 to be effective 10/29/2024.

Filed Date: 11/26/24.

Accession Number: 20241126-5284.

Comment Date: 5 p.m. ET 12/17/24.

Docket Numbers: ER25-579-000.

Applicants: Midcontinent Independent System Operator, Inc.

Description: § 205(d) Rate Filing: 2024-11-26_Shortage Pricing and Price Formation Reforms for VOLL and ORDC to be effective 9/30/2025.

Filed Date: 11/26/24.

Accession Number: 20241126-5289.

Comment Date: 5 p.m. ET 12/17/24.

Take notice that the Commission received the following public utility holding company filings:

Docket Numbers: PH24-12-000.

Applicants: Unison Energy, LLC, Tiger Infrastructure Partners Fund III AIV U LP.

Description: Unison Energy, LLC, et. al. submit response to FERC's 09/06/2024 request for additional information re the 07/12/2024 FERC-65A Exemption Notification Filing.

Filed Date: 9/17/24.

Accession Number: 20240917-5061.

Comment Date: 5 p.m. ET 12/17/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 26, 2024.
Carlos D. Clay,
Acting Deputy Secretary.

[FR Doc. 2024-28289 Filed 12-2-24; 8:45 am]

BILLING CODE 6717-01-P